DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 3, 2006.

Interested persons are invited to submit written comments regarding the subject matter of the investigations to the Director, Division of Trade Adjustment Assistance, at the address shown below, not later than April 3, 2006.

The petitions filed in this case are available for inspection at the Office of the Director, Division of Trade Adjustment Assistance, Employment and Training Administration, U.S. Department of Labor, Room C-5311, 200 Constitution Avenue, NW., Washington, DC 20210.

Signed at Washington, DC this 15th day of February 2006.
Erica R. Cantor,
Director, Division of Trade Adjustment Assistance.

Appendix-54 TAA
[Petitions instituted between 2/27/06 and 3/3/06]
TA-W | Subject firm (petitioners) | Location | Date of institution | Date of petition
58911 | IBM (State) | San Jose, CA | 02/27/06 | 02/06/06
58912 | Boeing Company (The) (Union) | Melbourne, AR | 02/27/06 | 02/24/06
58913 | Centurty Furniture (State) | Hickory, NC | 02/27/06 | 02/24/06
58914 | Powertrain Controls Division (Comp) | Marshall, MI | 02/27/06 | 02/24/06
58915 | Alba Health, LLC (State) | Knoxville, TN | 02/27/06 | 02/24/06
58916 | Sony Electronics (Comp) | San Diego, CA | 02/27/06 | 02/15/06
58917 | Mid-South Electronics (Comp) | Annville, KY | 02/27/06 | 02/20/06
58918 | Perlos, Inc. (Comp) | Ft. Worth, TX | 02/27/06 | 02/23/06
58919 | Western Textile Products Company (Comp) | Piedmont, SC | 03/01/06 | 02/28/06
58920 | Rutgers Organics Corporation (Comp) | State College, PA | 03/01/06 | 02/28/06
58921 | Tawas Resources (Comp) | Tawas City, MI | 03/01/06 | 02/28/06
58922 | Radici Fabrics USA (State) | Fall River, MA | 03/01/06 | 02/14/06
58923 | Thermo Black Clawson, Inc. (State) | Rayville, LA | 03/01/06 | 02/27/06
58924 | Miller Desk, Inc. (Comp) | High Point, NC | 03/01/06 | 02/03/06
58925 | Eaton Corporation (Comp) | Everett, WA | 03/01/06 | 02/14/06
58926 | Triangle Suspension Systems (Wkrs) | Dubois, PA | 03/01/06 | 02/27/06
58927 | Magna Art Industries (Wkrs) | Cape Girardeau, MO | 03/01/06 | 02/20/06
58928 | ITT Jabsco Worldwide-Flojet (Comp) | Foothill Ranch, CA | 03/01/06 | 02/27/06
58929 | Milprint (USW) | Denmark, WI | 03/01/06 | 02/27/06
58930 | CTB McGraw Hill (State) | Monterey, CA | 03/01/06 | 02/27/06
58931 | Johnson Electric Automotive (Wkrs) | Brownsville, TX | 03/01/06 | 02/28/06
58932 | Craft-Co Enterprises, Inc. (Comp) | Morton, MS | 03/01/06 | 02/28/06
58933 | Delta Airlines, Inc. (Wkrs) | Portland, OR | 03/01/06 | 02/09/06
58934 | Codi, Inc. (Comp) | Pillow, PA | 03/01/06 | 02/27/06
58935 | Wormser Company (Comp) | Sharon, TN | 03/01/06 | 02/28/06
58936 | Newark Graphicboard Products (State) | Franklin, OH | 03/01/06 | 02/28/06
58937 | Rexam (Comp) | North Versailles, PA | 03/01/06 | 02/28/06
58938 | Crenshaw Die and Mfg. Corporation (State) | Irvine, CA | 03/01/06 | 02/28/06
58939 | Kmart (Wkrs) | Rainbow City, AL | 03/01/06 | 02/28/06
58940 | National Envelope (Wkrs) | Earth City, MO | 03/01/06 | 02/27/06
58941 | Delphi Connectin Systems (Comp) | Irvine, CA | 03/01/06 | 02/27/06
58942 | Holmes Group (The) (Wkrs) | Sedalia, MO | 03/01/06 | 03/01/06
58943 | Rexnord Corp. Disc Coupling Operation (Union) | Warren, PA | 03/02/06 | 02/27/06
58944 | Airfoil Technologies International (Union) | Mentor, OH | 03/02/06 | 02/20/06
58945 | Kramer Air Tool (State) | Lansing, MI | 03/02/06 | 02/16/06
58946 | Fibre-Metal Products Co. (Comp) | Concordville, PA | 03/02/06 | 02/20/06
58947 | Rantoul Products (IBT) | Rantoul, IL | 03/02/06 | 03/01/06
58948 | Carolina Mills, Inc. (Comp) | Newton, NC | 03/02/06 | 03/01/06
58949 | WWG (State) | Warrenton, GA | 03/02/06 | 03/02/06
58950 | Atlantic Luggage Company (Comp) | Ellwood City, PA | 03/03/06 | 03/02/06
58951 | Delta Airlines, Inc. (Wkrs) | Atlanta, GA | 03/03/06 | 02/23/06
58952 | Bartlett Corporation (Comp) | Muncie, IN | 03/03/06 | 03/02/06
58953 | Eagle Ottawa, LLC (State) | Rochester Hills, MI | 03/03/06 | 03/02/06
58954 | Kidde Residential and Commercial (Comp) | Colorado Springs, CO | 03/03/06 | 03/01/06
58955 | Sony Magnetic Products, Inc. of America (Comp) | Dothan, AL | 03/03/06 | 03/02/06
58956 | Sony Technology Center Pittsburgh (Wkrs) | Mount Pleasant, PA | 03/03/06 | 03/02/06
58957 | Robbins, Inc. (Comp) | Ishpeming, MI | 03/03/06 | 03/02/06
58958 | Alcan Pharmaceutical Packaging and Personal Care, Inc. (GMP) | Centralia, IL | 03/03/06 | 02/05/06
58959 | ITT HydroAir (Comp) | Brea, CA | 03/03/06 | 03/02/06
58960 | Lesaffre-Red Star Yeast (UAW) | Milwaukee, WI | 03/03/06 | 02/28/06
58961 | TDK Ferrites Corporation (Wkrs) | Shawnee, OK | 03/03/06 | 03/02/06
58962 | Colgate-Palmolive Company (Comp) | Jeffersonville, IN | 03/03/06 | 02/28/06
58963 | Huntington Foam (Comp) | Greenville, MI | 03/03/06 | 03/03/06
58964 | Reach Road Manufacturing Corp. (Comp) | Williamsport, PA | 03/03/06 | 03/03/06

[FR Doc. E6-4307 Filed 3-23-06; 8:45 am]

BILLING CODE 4510-30-P